DEPARTMENT OF TRANSPORTATION

Federal Aviation Administration

14 CFR Part 39

[Docket No. FAA-2011-1074; Directorate Identifier 2010-SW-028-AD; Amendment 39-16834; AD 2011-21-11]

RIN 2120-AA64

Airworthiness Directives; Eurocopter France (Eurocopter) Model EC225LP Helicopters

AGENCY: Federal Aviation Administration, DOT.

ACTION: Final rule; request for comments.

SUMMARY: This amendment adopts a new airworthiness directive (AD) for the Eurocopter Model EC225LP helicopters. This AD requires inspecting the side mount of the pilot and copilot seats to determine if any floor attachment screw, nut, or washer is missing. If a screw, nut, or washer is missing, this AD also requires installing airworthy parts. This AD is prompted by a report that some of the floor attachment screws and nuts under the pilot and co-pilot seats were missing. Further investigation has shown that some of the cup washers that need to be used in installing countersunk head screws that attach the pilot and co-pilot seat frame to the floor were missing. A missing floor attachment screw, washer, or nut, if not detected, could reduce the strength of the seat attachment. The actions specified in this AD are intended to detect a missing floor attachment screw, washer, or nut and help prevent detachment of the seat from the floor during an emergency landing.

DATES: Effective November 14, 2011.

The incorporation by reference of certain publications listed in the regulations is approved by the Director of the Federal Register as of November 14, 2011.

Comments for inclusion in the Rules Docket must be received on or before December 27, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining te Docket: You may examine the docket that contains the AD, any comments, and other information on the Internet at http://www.regulations.gov, or in person at the Docket Operations office between 9 a.m. and 5 p.m., Monday through Friday, except Federal holidays. The Docket Operations office (telephone (800) 647 5527) is located in Room W12-140 on the ground floor of the West Building at the street address stated in the ADDRESSES section. Comments will be available in the AD docket shortly after receipt.

FOR FURTHER INFORMATION CONTACT: Gary Roach, Aviation Safety Engineer, FAA, Rotorcraft Directorate, Regulations and Guidance Group, 2601 Meacham Blvd., Fort Worth, Texas 76137, telephone (817) 222-5130, fax (817) 222-5961.

SUPPLEMENTARY INFORMATION:

Discussion

The European Aviation Safety Agency (EASA), which is the Technical Agent for the Member States of the European Union, has issued EASA AD No. 2010-0030, dated February 26, 2010, to correct an unsafe condition for the Eurocopter Model EC225LP helicopters. EASA reports that on several newly-produced helicopters, some screws and nuts that attach the frames of the pilot's and co-pilot's seats to the floor were missing. Further investigation has shown that some of the cup washers that need to be used in installing the countersunk head screws, which attach the pilot's and co-pilot's seat frames to the floor, were missing. EASA states that this condition, if not corrected, reduces the seat attachments strength, and it could result in no longer retaining the seats in place in the event of an emergency or hard landing.

Differences Between This AD and the EASA AD

We refer to flight hours as hours time-in-service.

Related Service Information

Eurocopter has issued Alert Service Bulletin No. 53A020, Revision 0, dated February 17, 2010 (ASB), which specifies checking for the presence of screws and nuts on each side of the pilot's and co-pilot's seat mount. If one screw or one nut is missing, the ASB specifies removing the affected seat, checking for cup washers, and performing the specified corrective action to return the seat to conformity.

FAA's Evaluation and Unsafe Condition Determination

This helicopter has been approved by the aviation authority of France and is approved for operation in the United States. Pursuant to our bilateral agreement with France, EASA, their technical representative, has notified us of the unsafe condition described in the EASA AD. We are issuing this AD because we evaluated all information provided by EASA and determined the unsafe condition exists and is likely to exist or develop on other helicopters of this same type designs.

There are no helicopters of this type currently registered in the United States. However, this rule is necessary to ensure that the described unsafe condition is addressed if any of these helicopters are placed on the U.S. Registry in the future.

Costs of Compliance

There are no costs of compliance since there are no helicopters of this type design on the U.S. Registry.

FAA's Determination of the Effective Date

Since there are currently no affected U.S. registered helicopters, we have determined that notice and opportunity for prior public comment before issuing this AD are unnecessary and that good cause exists for making this amendment effective in less than 30 days.

Requirements of This AD

This unsafe condition is likely to exist or develop on other helicopters of the same type design that may become registered in the United States. Therefore, this AD is being issued to require, within 85 hours time-in-service (TIS), unless accomplished previously, inspecting for the presence of 4 screws and 4 nuts on each side of the copilot's seat mount and 1 screw and 1 nut on each side of the pilot's seat mount. If any screw, nut, or cup washer is missing, this AD requires removing the seat and mount and, before further flight, counter sinking the hole and installing airworthy parts and replacing the mount and seat. The actions must be done by following specified portions of the ASB described previously.

Comments Invited

This AD is a final rule that involves requirements affecting flight safety, and we did not precede it by notice and opportunity for public comment. We invite you to send any written relevant data, views, or arguments about this AD. Send your comments to an address listed under the ADDRESSES. Include “Docket No. FAA-2011-1074; Directorate Identifier 2010 SW 028 AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the docket web site, you can find and read the comments to any of our dockets, including the name of the individual who sent the comment. You may review the DOT's complete Privacy Act Statement in the Federal Register published on April 11, 2000 (65 FR 19477 78).

Regulatory Findings

We have determined that notice and prior public comment are unnecessary in promulgating this regulation; therefore, it can be issued immediately to correct an unsafe condition in aircraft since none of these model helicopters are registered in the United States. We have also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the AD docket.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2011-21-11 Eurocopter France: Amendment 39-16834; Docket No. FAA-2011-1074; Directorate Identifier 2010-SW-028-AD.

Applicability: Model EC225LP helicopters, with an airworthiness certificate issued before December 15, 2009, with FISHER H140 pilot and co-pilot seats, part number (P/N) 052010032000D61091, Eurocopter P/N 704A41120116, or with Eurocopter co-pilot seat, P/N 332V08-0180-00, installed, certificated in any category.

Compliance: Required as indicated, unless accomplished previously.

To detect a missing floor attachment screw, nut, or washer to help prevent detachment of the seat from the floor during an emergency landing, do the following:

(a) Within 85 hours time-in-service (TIS), inspect for the presence of 4 screws and 4 nuts on each side of the copilot's seat mount and 1 screw and 1 nut on each side of the pilot's seat mount by reference to Figures 1 through 4 of Eurocopter Alert Service Bulletin No. 53A020, Revision 0, dated February 17, 2010 (ASB).

(b) If any screw, nut, or cup washer is missing, remove the seat and mount and before further flight, countersink the hole and install airworthy parts and replace the mount and seat by following the Accomplishment Instructions, paragraph 2.b.2.b., of the ASB.

(c) To request a different method of compliance or a different compliance time for this AD, follow the procedures in 14 CFR 39.19. Contact the Manager, Safety Management Group, FAA, Attn: Gary Roach, Aviation Safety Engineer, Rotorcraft Directorate, Regulations and Guidance Group, 2601 Meacham Blvd., Fort Worth, Texas 76137, telephone (817) 222-5130, fax (817) 222-5961, for information about previously approved alternative methods of compliance.

(d) The Joint Aircraft System/Component Code is 2500: Cabin Equipment/Furnishings.

(e) The inspection and repair of the pilot and co-pilot seats shall be done by following the specified portions of Eurocopter Alert Service Bulletin No. 53A020, Revision 0, dated February 17, 2010. The Director of the Federal Register approved this incorporation by reference in accordance with 5 U.S.C. 552(a) and 1 CFR part 51. Copies may be obtained from American Eurocopter Corporation, 2701 Forum Drive, Grand Prairie, TX 75053-4005, telephone (800) 232-0323, fax (972) 641-3710, or at http://www.eurocopter.com. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(f) This amendment becomes effective on November 14, 2011.

Note: The subject of this AD is addressed in European Aviation Safety Agency AD No. 2010-0030, dated February 26, 2010.

Issued in Fort Worth, Texas, on September 29, 2011.
Kim Smith,
Manager, Rotorcraft Directorate, Aircraft Certification Service.

[FR Doc. 2011-27680 Filed 10-26-11; 8:45 am]

BILLING CODE 4910-13-P